FEDERAL ELECTION COMMISSION

Sunshine Act Meeting

* * * * *

Previously announced date & time: Thursday, November 1, 2001, open meeting scheduled for 10:00 a.m. The starting time has been changed to 2:00 p.m.

DATES & TIME: Tuesday, November 6, 2001 at 10:00 a.m.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATES & TIME: Thursday, November 8, 2001 at 10:00 a.m.

PLACE: 999 E Street, NW., Washington, DC (ninth floor).

STATUS: This meeting will be closed to the public.

ITEMS TO BE DISCUSSED: Correction and Approval of Minutes.

Draft Advisory Opinion 2001-13: Green Party of the United States by special counsel, Thomas Alan Linzey, and senior counsel, David Cobb.

Administrative Matters.

PERSON TO CONTACT FOR INFORMATION: Mr. Ron Harris, Press Officer. Telephone: (202) 694-1220.

Mary W. Dove,
Secretary of the Commission.

[FR Doc. 01-27486 Filed 10-29-01; 3:12 pm]

BILLING CODE 6715-01-M